DEPARTMENT OF COMMERCE

National Oceanic and Atmospheric Administration

RIN 0648-XD707

North Pacific Fishery Management Council (NPFMC); Public Meeting

AGENCY: National Marine Fisheries Service (NMFS), National Oceanic and Atmospheric Administration (NOAA), Commerce.

ACTION: Notice of a public meeting.

SUMMARY: There will be a joint meeting of the North Pacific Fishery Management Council (Council) and International Pacific Halibut Commission (IPHC) in Seattle, WA.

DATES: The meeting will be held on Thursday, February 5, 2015, from 10 a.m. to 5 p.m.

ADDRESSES: The meeting will be held at the Renaissance Hotel, 515 Madison Street, South Room, Seattle, WA.

Council address: North Pacific Fishery Management Council, 605 W. 4th Avenue, Suite 306, Anchorage, AK 99501-2252.

FOR FURTHER INFORMATION CONTACT: David Witherell, Council staff; telephone: (907) 271-2809.

SUPPLEMENTARY INFORMATION:

Council/IPHC agenda:

1. Introductions/opening comments

2. Brief history of NPFMC/IPHC/NMFS interactions

3. Brief description of respective management authorities and applicable laws

4. Current data/information collection issues relative to stock assessment and management; Reconciling bycatch estimates for use in stock assessment and Catch Limit Fishing Mortality Rate (FCEY) determinations; Improving estimates of discard mortalities and discard mortality rates (DMRs(\) in the directed halibut and other fisheries

5. Discussion of current management measures and issues of mutual interest; IPHC Total mortality accounting framework and Scientific Statistical Committee (SSC) review; Council BSAI halibut Prohibited Species Catch (PSC) reduction package and SSC review; Abundance-based PSC limits (background discussion being drafted by NPFMC/IPHC)

6. Identify areas of mutual interest in research and facilitation of management

7. Public comment

8. Council/IPHC discussion of all agenda items

The Agenda is subject to change, and the latest version will be posted at http://www.npfmc.org. Background documents, reports, and analyses for review are posted on the Council Web site in advance of the meeting.

Special Accommodations

These meetings are physically accessible to people with disabilities. Requests for sign language interpretation or other auxiliary aids should be directed to Gail Bendixen at (907) 271-2809 at least 7 working days prior to the meeting date.

Dated: January 13, 2015.
Tracey L. Thompson,
Acting Deputy Director, Office of Sustainable Fisheries, National Marine Fisheries Service.

[FR Doc. 2015-00610 Filed 1-15-15; 8:45 am]

BILLING CODE 3510-22-P